DEPARTMENT OF ENERGY

Federal Energy Regulatory Commission

[Docket No. RP03-45-001]

ANR Pipeline Company; Notice of Compliance Filing

December 19, 2002.

Take notice that on December 16, 2002, ANR Pipeline Company (ANR), tendered for filing an explanatory statement to clarify its intent with regard to the tariff language proposed as a part of its October 29, 2002, Tariff filing as required by the Commission's November 29, 2002, letter order.

ANR respectfully requests that the Commission accept this clarification.

Any person desiring to protest said filing should file a protest with the Federal Energy Regulatory Commission, 888 First Street, NE., Washington, DC 20426, in accordance with Section 385.211 of the Commission's rules and regulations. All such protests must be filed on or before December 26, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-32558 Filed 12-24-02; 8:45 am]

BILLING CODE 6717-01-P